DEPARTMENT OF THE INTERIOR

Bureau of Land Management

[BLM_OR_FRN_MO4500170769]

Notice of Proposed Withdrawal and Opportunity for Public Meeting; Oregon

AGENCY: Bureau of Land Management, Interior.

ACTION: Notice of proposed withdrawal.

SUMMARY: At the request of the Bureau of Land Management (BLM), the Secretary of the Interior proposes to withdraw 103.92 acres of public lands in Douglas County, Oregon, from location and entry under the United States mining laws, but not from leasing under the mineral and geothermal leasing laws, for a period of 20 years, subject to valid existing rights, to protect the unique recreational values as well as current and future site improvements at three public recreation sites. An additional 21.20 acres of public lands with non-Federal mineral interest and 38.50 acres of non-Federal lands, if acquired by the United States, would also be subject to the withdrawal. This notice segregates these lands for up to 2 years from location or entry under the United States mining laws, initiates a 90-day public comment period, and announces an opportunity to request a public meeting.

DATES: Comments and requests for a public meeting must be received on or before October 23, 2023.

ADDRESSES: All comments and meeting requests should be sent to the BLM Oregon/Washington State Director, PO Box 2965, Portland, Oregon 97208. The application and the case file are available for public inspection at the Bureau of Land Management, 1220 SW 3rd Avenue, Portland, OR 97204.

FOR FURTHER INFORMATION CONTACT: Luke Poff, Realty Specialist, BLM Oregon/Washington State Office, at 503-808-6001, by email at lpoff@blm.gov, or at the address noted above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM filed a petition/application requesting the Secretary withdraw the following described public lands located in Douglas County, Oregon, from location and entry under the United States mining laws, but not from leasing under the mineral and geothermal leasing laws, subject to valid existing rights, to protect the unique recreational values as well as current and future site improvements at three public recreation sites for a 20-year term:

Iron Mountain Recreation Area

Willamette Meridian, Oregon

T. 31 S., R. 7 W.,

Sec. 4, NE¼SE¼, excepting that portion granted to the railroad under the Act of July 25, 1866 (14 Stat. 239).

The area described contains 36.60 acres.

Olalla-Thompson Creek Day Use Area

Willamette Meridian, Oregon

T. 30 S., R. 7 W.,

Sec. 5, SW¼NE¼SW¼, SE¼NW¼SW¼, and N½NE¼SW¼SW¼.

The area described contains 25.00 acres.

Island Creek Recreation Area

Willamette Meridian, Oregon

T. 31 S., R. 7 W.,

Sec. 1, lot 5, excepting that portion of lot 5 granted to the railroad under the Act of July 25, 1866 (14 Stat. 239).

The area described contains 42.32 acres.

The following described public lands with non-Federal mineral interests, if mineral rights are acquired by United States, will be subject to the terms and conditions of this withdrawal as described in paragraph 1:

Island Creek Recreation Area

Willamette Meridian, Oregon

T. 30 S., R. 7 W.,

Sec. 36, those portions of the S½SW¼SE¼SW¼ and the S½SE¼SE¼SW¼ lying between the ordinary high-water mark of the easterly bank of Cow Creek and the southerly boundary of the Oregon & California Railroad Grant patent dated May 6, 1896.

T. 31 S., R. 7 W.,

Sec. 1, that portion of the NW¼NW¼ lying between the ordinary high-water mark of the southwesterly bank of Cow Creek and the southerly boundary of the Oregon & California Railroad Grant patent dated May 6, 1896.

The areas described aggregate 21.20 acres.

The following described non-Federal lands, if acquired by the United States, will be subject to the terms and conditions of this withdrawal as described in paragraph 1:

Island Creek Special Recreation Site

Willamette Meridian, Oregon

T. 30 S., R. 7 W.,

Sec. 36, S½SW¼SW¼SW¼, S½SE¼SW¼SW¼, S½SW¼SE¼SW¼, and S½SE¼SE¼SW¼, excepting those portions of the S½SW¼SE¼SW¼ and the S½SE¼SE¼SW¼ lying between the ordinary high-water mark of the easterly bank of Cow Creek and the southerly boundary of the Oregon & California Railroad Grant patent dated May 6, 1896.

T. 31 S., R. 7 W.,

Sec. 1, that portion of lot 5 granted to the railroad under the Act of July 25, 1866 (14 Stat. 239), and NW¼NW¼, excepting that portion of the NW¼NW¼ lying between the ordinary high-water mark of the southwesterly bank of Cow Creek and the southerly boundary of the Oregon & California Railroad Grant patent dated May 6, 1896.

The areas described aggregate 38.50 acres.

The total areas described, including public and non-Federal lands, aggregate 163.62 acres. The Secretary approved the BLM's petition/application. Therefore, the petition/application constitutes a withdrawal proposal of the Secretary of the Interior (43 CFR 2310.1-3(e)).

The use of a right-of-way, interagency agreement, or cooperative agreement would not adequately constrain mineral location and surface entry, which could adversely affect ongoing management activities and existing and planned capital improvements resulting in land use conflicts and irretrievable loss of natural resources. Suitable alternative sites are not available because the recreational sites have unique values.

No water is necessary to fulfill the purpose of the proposed withdrawal. Records relating to this proposed withdrawal may be examined by contacting the BLM at the above address and phone number.

Comments, including names and street addresses of respondents, will be available for public review at the address indicated above during regular business hours. Before including your address, phone number, email address, or other personal identifying information in your comment, you should be aware that your entire comment—including your personally identifying information—may be made publicly available at any time. While you may ask the BLM in your comment to withhold your personal identifying information from public review, we cannot guarantee that we will be able to do so.

Notice is hereby given that an opportunity for a public meeting is afforded in connection with the proposed withdrawal. All interested persons who desire a public meeting for the purpose of being heard on the proposed withdrawal must submit a written request to the State Director, BLM Oregon/Washington State Office, at the address in the ADDRESSES section, within 90 days from the date of publication of this notice. If the authorized officer determines that a public meeting will be held, a notice of the date, time, and place will be published in the Federal Register and local newspapers and posted on the BLM website at www.blm.gov at least 30 days before the scheduled date of the meeting.

For a period of 2 years from the date of publication of this notice in the Federal Register, the land will be segregated from location or entry under the United States mining laws unless the application is denied or cancelled or if the withdrawal is approved prior to that date. The temporary uses that may be permitted during this segregation period are leases, licenses, permits, rights-of-way, and disposal of mineral or vegetative resources other than under the mining laws.

This withdrawal application will be processed in accordance with the regulations set forth at 43 CFR part 2300.

(Authority: 43 U.S.C. 1714.)

Barry R. Bushue,
BLM Oregon/Washington State Director.

[FR Doc. 2023-15684 Filed 7-24-23; 8:45 am]

BILLING CODE 4331-24-P